NUCLEAR REGULATORY COMMISSION

10 CFR Part 71

RIN 3150-AG71

Compatibility With IAEA Transportation Safety Standards (TS-R-1) and Other Transportation Safety Amendments; Correction

AGENCY: Nuclear Regulatory Commission.

ACTION: Final rule: Correction.

SUMMARY: This document corrects a final rule appearing in the Federal Register on January 26, 2004 (69 FR 3698) amending the regulations governing the packaging and transportation of radioactive materials. This action is necessary to add unintentionally omitted text and to correct editorial errors, references, and numerical values as printed in the final rule.

EFFECTIVE DATE: October 1, 2004. The effective date for §§ 71.19(a) and 71.20 ends on October 1, 2008.

FOR FURTHER INFORMATION CONTACT: Mary Adams, Office of Nuclear Material Safety and Safeguards, U.S. Nuclear Regulatory Commission, Washington, DC 20555-0001, telephone (301) 415-7249, e-mail mta@nrc.gov.

SUPPLEMENTARY INFORMATION: This action adds unintentionally omitted text and corrects editorial errors, references, and numerical values as printed in the final rule amending part 71 (January 26, 2004; 69 FR 3698). Because of the numerous corrections in § 71.5(a), the complete text of § 71.5(a) is being reprinted for the convenience of interested members of the public.

PART 71—[Corrected]

1. On page 3787, first column, in § 71.1 paragraph (a) is corrected to read as follows:

§ 71.1 Communications and records.

(a) Except where otherwise specified, all communications and reports concerning the regulations in this part and applications filed under them should be sent by mail addressed: ATTN: Document Control Desk, Director, Spent Fuel Project Office, Office of Nuclear Material Safety and Safeguards, U.S. Nuclear Regulatory Commission, Washington, DC 20555-0001, by hand delivery to the NRC's offices at 11555 Rockville Pike, Rockville, Maryland; or, where practicable, by electronic submission, for example, via Electronic Information Exchange, or CD-ROM. Electronic submissions must be made in a manner that enables the NRC to receive, read, authenticate, distribute, and archive the submission, and process and retrieve it a single page at a time. Detailed guidance on making electronic submissions can be obtained by visiting the NRC's Web site at http://www.nrc.gov/site-help/eie.html, by calling (301) 415-6030, by e-mail to EIE@nrc.gov, or by writing the Office of the Chief Information Officer, U.S. Nuclear Regulatory Commission, Washington, DC 20555-0001. The guidance discusses, among other topics, the formats the NRC can accept, the use of electronic signatures, and the treatment of nonpublic information. If the submission date falls on a Saturday, Sunday, or a Federal holiday, the next Federal working day becomes the official due date.

* * * * *

§ 71.4 [Corrected]

2. On page 3789, in § 71.4, the definition for Surface Contaminated Object (SCO), in the first column, in paragraph (1)(ii), fourth line, “4 × 10⁻⁴” is corrected to read “4 × 10⁴”; in the second column, in paragraph (1)(iii), eighth line, “4 × 103” is corrected to read “4 × 10³”; in paragraph (2)(i), fourth line, “300²” is corrected to read “300 cm²”; and in paragraph (2)(iii), fifth line, “300²” is corrected to read “300 cm²”.

3. On page 3789, third column, in § 71.5 paragraph (a) is corrected to read as follows:

§ 71.5 Transportation of licensed material.

(a) Each licensee who transports licensed material outside the site of usage, as specified in the NRC license, or where transport is on public highways, or who delivers licensed material to a carrier for transport, shall comply with the applicable requirements of the DOT regulations in 49 CFR parts 107, 171 through 180, and 390 through 397, appropriate to the mode of transport.

(1) The licensee shall particularly note DOT regulations in the following areas:

(i) Packaging—49 CFR part 173: subparts A, B, and I.

(ii) Marking and labeling—49 CFR part 172: subpart D; and §§ 172.400 through 172.407 and §§ 172.436 through 172.441 of subpart E.

(iii) Placarding—49 CFR part 172: subpart F, especially §§ 172.500 through 172.519 and 172.556; and appendices B and C.

(iv) Accident reporting—49 CFR part 171: §§ 171.15 and 171.16.

(v) Shipping papers and emergency information—49 CFR part 172: subparts C and G.

(vi) Hazardous material employee training—49 CFR part 172: subpart H.

(vii) Security plans—49 CFR part 172: subpart I.

(viii) Hazardous material shipper/carrier registration—49 CFR part 107: subpart G.

(2) The licensee shall also note DOT regulations pertaining to the following modes of transportation:

(i) Rail—49 CFR part 174: subparts A through D and K.

(ii) Air—49 CFR part 175.

(iii) Vessel—49 CFR part 176: subparts A through F and M.

(iv) Public Highway—49 CFR part 177 and parts 390 through 397.

* * * * *

4. In § 71.22, on page 3793, paragraph (c)(1) and the heading of Table 71-1 and on page 3794 the heading of Table 71-2 are corrected to read as follows:

§ 71.22 General license: Fissile material.

* * * * *

(c) * * *

(1) Contain no more than a Type A quantity of radioactive material; and

* * * * *

Table 71-1.—Mass Limits for General License Packages Containing Mixed Quantities of Fissile Material or Uranium-235 of Unknown Enrichment per § 71.22(e)

* * * * *

Table 71-2.—Mass Limits for General License Packages Containing Uranium-235 of Known Enrichment per § 71.22(e)

* * * * *

5. On page 3794, third column, in § 71.23, paragraph (c)(1) is corrected to read as follows:

§ 71.23 General license: Plutonium-beryllium special form material.

* * * * *

(c) * * *

(1) Contain no more than a Type A quantity of radioactive material; and

* * * * *

§ 71.41 [Corrected]

6. On page 3794, first column, in § 71.41, paragraph (a), seventh line, “105” is corrected to read “10⁵.”

§ 71.51 [Corrected]

7. On page 3794, third column, in § 71.51, paragraph (d), third line, “105” is corrected to read “10⁵.”

8. On page 3800, in Appendix A to part 71, Paragraphs I and IV(b), and in Tables A-1, A-3 and A-4, beginning on page 3801, are corrected to read as follows:

Appendix A to Part 71—Determination of A1 and A2

I. Values of A1 and A2 for individual radionuclides, which are the bases for many activity limits elsewhere in these regulations, are given in Table A-1. The curie (Ci) values specified are obtained by converting from the Terabecquerel (TBq) value. The Terabecquerel values are the regulatory standard. The curie values are for information only and are not intended to be the regulatory standard. Where values of A1 and A2 are unlimited, it is for radiation control purposes only. For nuclear criticality safety, some materials are subject to controls placed on fissile material.

* * * * *

IV. * * *

b. For normal form radioactive material, the maximum quantity transported in a Type A package is as follows:

ΣB(i)/A2 (i) ≤ 1

where B(i) is the activity of radionuclide i, and A2(i) is the A2 value for radionuclide i.

* * * * *

Table A-1.—A1 and A2 Values for Radionuclides

A new footnote reference “b” is added to the headings of the fourth and sixth columns, titled A1(Ci)ᵇ and A2(Ci)ᵇ, and new footnote “b” text is added to the end of Table A-1 to read as follows:

ᵇ The values of A1 and A2 in Curies (Ci) are approximate and for information only; the regulatory standard units are Terabecquerels (TBq), (see Appendix A to part 71—Determination of A1 and A2, Section I.).

For radionuclide Bi-205, the specific activity is corrected to 1.5 × 10³ TBq/g.

For radionuclide Cm-248, the specific activity is corrected to 1.6 × 10−⁴ TBq/g.

For radionuclide Eu-150 (long lived), the A1 value is corrected to 7.0 × 10−¹ TBq.

For radionuclide Te-132(a), the specific activity is corrected to 3.0 × 10⁵ Ci/g.

* * * * *

Table A-3.—General Values for A1 and A2 [Amended]

The value under the sixth column “Activity concentration for exempt material (Bq/g)” for the first row “Only beta or gamma emitting radionuclides are known to be present” is corrected to read 1 × 10¹.

The value under the seventh column “Activity limits for exempt consignments (Bq)” for the first row “Only beta or gamma emitting radionuclides are known to be present.” is corrected to read 1 × 10⁴.

Table A-4.—Activity-Mass Relationships for Uranium

The value under the third column “Specific Activity | Ci/g” for the “90” row “Uranium Enrichment wt% U-235 present” is corrected to read 5.8 × 10−⁵.

Dated at Rockville, Maryland, this 24th day of September, 2004.
For the Nuclear Regulatory Commission.
Michael T. Lesar,
Chief, Rules and Directives Branch, Division of Administrative Services, Office of Administration.

[FR Doc. 04-21763 Filed 9-28-04; 8:45 am]

BILLING CODE 7590-01-P